DEPARTMENT OF DEFENSE

Office of the Secretary

Privacy Act of 1974; System of Records

AGENCY: Office of the Secretary, DoD.

ACTION: Notice to add a system of records; DTIC 01 Defense User Registration System (DURS).

SUMMARY: The Office of the Secretary of Defense proposes to add a system of records to its inventory of record systems subject to the Privacy Act of 1974 (5 U.S.C. 552a), as amended.

DATES: The changes will be effective on May 25, 2005, unless comments are received that would result in a contrary determination.

ADDRESSES: Send comments to OSD Privacy Act Coordinator, Records Management Section, Washington Headquarters Services, 1155 Defense Pentagon, Washington, DC 20301-1155.

FOR FURTHER INFORMATION CONTACT: Ms. Juanita Irvin at (703) 601-4722, extension 110.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on April 19, 2005, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: April 20, 2005.
Jeannette Owings-Ballard,
OSD Federal Register Liaison Officer, Department of Defense.

DTIC 01

System name:

Defense User Registration System (DURS).

System location:

Defense Technical Information Center (DTIC), Directorate of User Services, Marketing and Registration Division, ATTN: DTIC-BC (Registration), 8725 John J. Kingman Road, Suite 0944, Fort Belvoir, VA 22060-6218.

Categories of individuals covered by the system:

DTIC Military and Civilian Personnel; contractor employees; students and employees of specifically qualifying educational institutions, Groups, and Programs, e.g., Historically Black Colleges, Universities, and Minority Institutions (HBCU/MI), Hispanic Serving Institutions (HSIs), and University Research Support (URS); awardees under the Multidisciplinary University Research Initiative (MURI); awardees and researchers eligible for awards under the Defense Experimental Program to Stimulate Competitive Research (DEPSCOR); designated officials and employees of foreign embassies; and members of Small Business Innovative Research (SBIR) Organizations/Groups.

Categories of records in the system:

Documents relating to registration requests by individuals seeking access to computers, databases, products, and/or services that are owned or controlled by DTIC. The records contain the individual's name; Physical and electronic addresses; organization or company addresses; the last four digits of their Social Security Number; registrant USERIDs; password/reset questions; telephone number(s); access eligibility; dissemination/distribution group codes; and their personal and facility security clearance level (s). The record also will contain the government approving official's name, phone number, and email address. Where applicable, it will also contain contract number(s), contract expiration date(s), and the Military Critical Technical Data Agreement (MCTDA) Certification Number. The record will contain the dates of registration's activation, and the projected date of expiration.

Authority for maintenance of the system:

5 U.S.C. 301, Departmental Regulation; E.O. 12958, April 17, 1995; DOD 5200.1-R, Chapter 6; United States Security Authority North Atlantic Treaty Organization (USSAN) 1-69; Defense Information Systems Agency (DISA)Instruction 240-110-8, Chapter 8; E.O. 9397 (SSN).

Purpose(s):

The purpose of the system is to identify individuals who apply for, and are granted, access privileges to DTIC automated information systems, products, and services.

Routine uses of records maintained in the system, including categories of users and the purposes of such uses:

In addition to those disclosures generally permitted under 5 U.S.C. 552a(b) of the Privacy Act, these records or information contained therein may specifically be disclosed outside the DoD as a routine use pursuant to 552a(b)(3) as follows:

The DoD “Blanket Routine Uses” set forth at the beginning of OSD's compilation of systems of records notices apply to this system.

Policies and practices for storing, retrieving, accessing, retaining, and disposing of records in the system:

Storage:

Records are maintained on electronic storage media.

Retrievability:

Records are electronically retrieved by name, user code, organization, company name, email address, and by contract number.

Safeguards:

Automated records are maintained in controlled areas accessible only to authorized personnel. Entry to these areas is restricted to personnel with a valid requirement and authorization to enter. Physical entry is restricted by the use of a cipher lock. Back-up data maintained at each location is stored in a locked room. The system will complies with the DoD Information Technology Security Certification and Accreditation Process (DITSCAP). Access to records is restricted to individuals who require the data in the performance of official duties.

Retention and disposal:

Disposition pending approval of records disposition schedule by the National Records and Administration Agency.

System manager(s) and address:

The Chief, Marketing and Registration Division, DTIC-BC, 8725 John J. Kingman Road, Suite 0944, Fort Belvoir, VA 22060-6218.

Notification procedure:

Individuals seeking to determine whether this system of records contains information about themselves may address their inquiries to:

Defense Technical Information Center; ATTN: DTIC-BC (Registration Team), 8725 John J. Kingman Road, Suite 0944, Fort Belvoir VA 22060-6218, or send an email to Reghelp@dtic.mil; or send an electronic facsimile to: Attn: Leader, DTIC Registration Team, DTIC-BC, at (703) 767-9459

Requests should contain the individual's full name, Social Security Number, telephone number, street address, and email address.

Record access procedures:

Individuals seeking to access records about themselves contained in this system of records should address written inquires to the Privacy Act Officer, Defense Technical Information Center, 8725 John J. Kingman Road, Suite 0944, Fort Belvoir VA 22060-6218.

Requests should contain the individual's full name, Social Security Number, telephone number, street address, and email address.

Contesting record procedures:

The OSD rules for accessing records, for contesting contents and appealing initial agency determinations are published in OSD Administrative Instruction 81; 32 CFR part 311; or may be obtained from the system manager.

Record source categories:

Information is obtained from security personnel and individuals applying for access to DTIC controlled access documents, information systems, and/or services.

Exemptions claimed for the system:

None.

[FR Doc. 05-8197 Filed 4-22-05; 8:45 am]

BILLING CODE 5001-06-P